DEPARTMENT OF THE INTERIOR

Fish and Wildlife Service

50 CFR Part 17

[Docket No. FWS-R4-ES-2015-0178; FXES11130900000C2-156-FF009E32000]

RIN 1018-AY84

Endangered and Threatened Wildlife and Plants; 12-Month Finding on a Petition To Downlist the West Indian Manatee, and Proposed Rule To Reclassify the West Indian Manatee as Threatened

Correction

In Proposed Rule document 2015-32645, appearing on pages 1000-1026, in the Issue of Friday, January 8, 2016, make the following correction:

On page 1000, in the first column, under the heading “DATES:” the entry “April 8, 2015” is corrected to read “April 7, 2016”.

[FR Doc. C1-2015-32645 Filed 1-12-16; 8:45 am]

BILLING CODE 1505-01-D